DEPARTMENT OF THE TREASURY

Office of Foreign Assets Control

31 CFR Part 583

Publication of Global Magnitsky Sanctions Regulations Web General License 8.

AGENCY: Office of Foreign Assets Control, Treasury.

ACTION: Publication of web general license.

SUMMARY: The Department of the Treasury's Office of Foreign Assets Control (OFAC) is publishing one general license (GL) issued pursuant to the Global Magnitsky Sanctions Regulations: GL 8, which was previously made available on OFAC's website.

DATES: GL 8 was issued on September 12, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On September 12, 2024, OFAC issued GL 8 to authorize certain transactions otherwise prohibited by the Global Magnitsky Sanctions Regulations (GMSR), 31 CFR part 583. GL 8 was made available on OFAC's website (https://ofac.treasury.gov) when it was issued. The text of GL 8 is provided below.

OFFICE OF FOREIGN ASSETS CONTROL

Global Magnitsky Sanctions Regulations

31 CFR part 583

GENERAL LICENSE NO. 8

Authorizing Transactions Involving Certain Entities Owned by Ly Yong Phat or L.Y.P. Group Co., LTD

(a) Except as provided in paragraph (b) of this general license, all transactions prohibited by the Global Magnitsky Sanctions Regulations, 31 CFR part 583 (GMSR), involving any entity that is blocked solely due to a property interest of Ly Yong Phat (Ly) or L.Y.P. Group Co., LTD (L.Y.P. Group) or any entity in which Ly or L.Y.P. Group owns, directly or indirectly, a 50 percent or greater interest, are authorized, provided that such entity is not identified on the Office of Foreign Assets Control's List of Specially Designated Nationals and Blocked Persons.

(b) This general license does not authorize any transactions otherwise prohibited by the GMSR, including transactions involving any person blocked pursuant to the GMSR other than the blocked persons described in paragraph (a) of this general license, unless separately authorized.

Lisa M. Palluconi, Acting Director, Office of Foreign Assets Control

Dated: September 12, 2024.
Lisa M. Palluconi,
Acting Director, Office of Foreign Assets Control.

[FR Doc. 2024-21925 Filed 9-25-24; 8:45 am]

BILLING CODE 4810-AL-P